COMMODITY FUTURES TRADING COMMISSION

Sunshine Act Meetings

Time and Date: 1:45 p.m., Friday, October 26, 2007.

Place: 1155 21st St., NW., Washington, DC, 9th Floor Commission Conference Room.

Status: Closed.

Matters to be Considered: Rule Enforcement Review.

Contact Person for More Information: Sauntia S. Warfield, (202) 418-5084.

David A. Stawick,
Secretary of the Commission.

[FR Doc. 07-4883 Filed 9-28-07; 11:21 am]

BILLING CODE 6351-01-M